DEPARTMENT OF COMMERCE

International Trade Administration

[A-433-813, A-427-830]

Strontium Chromate From Austria and France: Postponement of Preliminary Determinations in the Less-Than-Fair-Value Investigations

AGENCY: Enforcement and Compliance, International Trade Administration, Department of Commerce.

DATES: Applicable March 11, 2019.

FOR FURTHER INFORMATION CONTACT: Brian Smith at (202) 482-1766 or Jaron Moore at (202) 482-3640 (Austria); and Dennis McClure at (202) 482-5973 or Josh Simonidis at (202) 482-0608 (France), AD/CVD Operations, Enforcement and Compliance, International Trade Administration, U.S. Department of Commerce, 1401 Constitution Avenue NW, Washington, DC 20230.

SUPPLEMENTARY INFORMATION:

Background

On September 25, 2018, the Department of Commerce (Commerce) initiated less-than-fair-value (LTFV) investigations of imports of strontium chromate from Austria and France.¹ The original deadline for these preliminary determinations was February 12, 2019. However, Commerce exercised its discretion to toll all deadlines affected by the partial federal government closure from December 22, 2018, through the resumption of operations on January 29, 2019.² If the new deadline falls on a non-business day, in accordance with Commerce's practice, the deadline will become the next business day. Accordingly, the revised deadline for these preliminary determinations is now March 25, 2019.³

¹ See Strontium Chromate from Austria and France: Initiation of Less-Than-Fair-Value Investigations, 83 FR 49543 (October 2, 2018) (Initiation Notice).

² See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

³ This is the next business day after March 24, 2019, the 40-day tolled preliminary determination deadline which falls on a Sunday.

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 11, 2019, the petitioner ⁴ submitted a timely request that Commerce postpone the preliminary determinations in these LTFV investigations.⁵ The petitioner stated that it requests postponement to provide adequate time for it to review the respondents' questionnaire responses and for Commerce to issue supplemental questionnaires and receive responses to those supplemental questionnaires prior to the preliminary determinations.

⁴ The petitioner is Lumimove, Inc., d.b.a. WPC Technologies.

⁵ See Letters from the petitioner, “Strontium Chromate from Austria: Request to Extend Preliminary Determination,” dated February 11, 2019; and “Strontium Chromate from France: Request to Extend Preliminary Determination,” dated February 11, 2019.

For the reasons stated above and because there are no compelling reasons to deny the request, Commerce, in accordance with section 733(c)(1) of the Act, is postponing the deadline for the preliminary determinations by 50 days (i.e., 190 days after the date on which these investigations were initiated plus 40 days for tolling). As a result, Commerce will issue its preliminary determinations no later than May 13, 2019. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: March 4, 2019.
Gary Taverman,
Deputy Assistant Secretary for Antidumping and Countervailing Duty Operations, performing the non-exclusive functions and duties of the Assistant Secretary for Enforcement and Compliance.

[FR Doc. 2019-04280 Filed 3-8-19; 8:45 am]

BILLING CODE 3510-DS-P